DEPARTMENT OF THE INTERIOR

Bureau of Land Management

[LLOR-936000-L14400000-ET0000; HAG-17-0166; OR-19014]

Public Land Order No. 7867: Partial Withdrawal Revocation, Water Power Designation No. 14, Oregon

AGENCY: Bureau of Land Management, Interior.

ACTION: Public Land Order (PLO).

SUMMARY: This Order revokes in part a Secretarial Order dated December 12, 1917, which established Water Power Designation No. 14, insofar as it affects 350 acres of Revested Oregon and California Railroad Grant Lands administered by the United States Forest Service. Subject to valid existing rights, Section 24 of the Federal Power Act, the provisions of existing withdrawals, other segregations of record, and the requirements of applicable law, this Order opens the lands to a Federal land exchange.

DATES: This PLO takes effect on May 25, 2018.

FOR FURTHER INFORMATION CONTACT: Jacob Childers, Bureau of Land Management, Oregon State Office, P.O. Box 2965, Portland, Oregon 97208-2965, 503-808-6225. Persons who use a telecommunications device for the deaf (TDD) may call the Federal Relay Service (FRS) at 1-800-877-8339 to contact the above individual. The FRS is available 24 hours a day, 7-days a week. You will receive a reply during normal business hours.

SUPPLEMENTARY INFORMATION: The Bureau of Land Management (BLM), with concurrence of the Federal Energy Regulatory Commission, has determined that a portion of the lands classified for water power purposes under Water Power Designation No. 14 will not be injured by conveyance out of Federal ownership. Any land conveyance will be subject to the General Exchange Act of 1922 (16 U.S.C. 485); the Federal Land Policy and Management Act of October 21, 1976, as amended (43 U.S.C. 1716); and the Act of November 23, 1977 (91 Stat. 1425) authorizing the administration of the Bull Run Watershed.

Order

By virtue of the authority vested in the Secretary of the Interior by Section 204 of the Federal Land Policy and Management Act of 1976, 43 U.S.C. 1714, it is ordered as follows:

1. The withdrawal created by a Secretarial Order dated December 12, 1917, which established Water Power Designation No. 14, is hereby revoked insofar as it affects the following described Revested Oregon and California Railroad Grant lands:

Willamette Meridian

T. 1 S., R. 6 E.,

Sec. 9, SE¼SE¼SE¼;

Sec. 17, E½NE¼, SE¼SW¼NE¼, SE¼NE¼SW¼, S½SW¼, and SE¼.

The area described contains 350 acres in Multnomah County.

2. At 9 a.m. on May 25, 2018 the lands described in Paragraph 1 are hereby opened to such forms of disposition as may be made of the Revested Oregon and California Railroad Grant lands, subject to Section 24 of the Federal Power Act of June 10, 1920, as amended (16 U.S.C. 818), to valid existing rights, the provisions of existing withdrawals, other segregations of record, and the requirements of applicable law.

Dated: April 18, 2018.
Joseph R. Balash,
Assistant Secretary—Lands and Minerals Management.

[FR Doc. 2018-11338 Filed 5-24-18; 8:45 am]

BILLING CODE 3411-16-P